DEPARTMENT OF EDUCATION

Office of Special Education and Rehabilitative Services;

[CFDA NO. 84.324D]

Applications Under Part D, Subpart 2 of the Individuals With Disabilities Education Act

AGENCY: Department of Education.

ACTION: Reopening notice.

SUMMARY: On January 22, 2001, a notice inviting applications for new fiscal year (FY) 2001 awards under the Office of Special Education and Rehabilitative Services; Grant Applications under Part D, Subpart 2 of the Individuals with Disabilities Education Act was published in the Federal Register (66 FR 6832). The notice provided closing dates and other information regarding the transmittal of applications for FY 2001 competitions under three programs authorized by the Individuals with Disabilities Education Act (IDEA), as amended. The purpose of this reopening notice is to invite applications for the Directed Research Projects (CFDA 84.324D) priority under the Research and Innovation to Improve Services and Results for Children with Disabilities Program.

Deadline for Transmittal of Applications: April 13, 2001

Note to Applicants: The notice published on January 22, 2001, provides other information that applies to this competition. Specifically, the priority in that notice, entitled Directed Research Projects (84.324D), identifies the requirements for applications submitted in response to this notice.

Potential applicants should consult the statement of the final priority published in the Federal Register on January 22, 2001 (66 FR 6833) to ascertain the substantive requirements for their applications.

FOR FURTHER INFORMATION CONTACT: For further information on this notice contact Debra Sturdivant, U.S. Department of Education, 600 Independence Avenue, SW., room 3317, Switzer Building, Washington, DC 20202-2641. FAX: (202) 205-8717 (FAX is the preferred method for requesting information). Telephone: (202) 205-8038. Internet: Debra_Sturdivant@ed.gov

If you use a TDD you may call the Federal Information Relay Service (FIRS) at 1-800-877-8339.

Individuals with disabilities may obtain this document in an alternate format (e.g., Braille, large print, audiotape, or computer diskette) on request to the contact persons listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at:

http://www.access.gpo.gov/nara/index.html

(Catalog of Federal Domestic Assistance Number 84.328, Training and Information for Parents of Children with Disabilities)

Dated: March 5, 2001.
Andrew J. Pepin,
Executive Administrator, OSERS.

[FR Doc. 01-5801 Filed 3-8-01; 8:45 am]

BILLING CODE 4000-01-P